FEDERAL MEDIATION AND CONCILIATION SERVICE

Proposed Agency Informational Collection Activities

AGENCY: Federal Mediation and Conciliation Service.

ACTION: Final 30-day Notice of Information Collection for Forms SF-424, SF-270 (LM-6), LM-8, SF-269a, LM-7, LM-9 and LM-3 that was sent to Office of Management and Budget for approval.

SUMMARY: The Federal Mediation and Conciliation Service (FMCS) published a 30-day notice in the Federal Register [on March 23, 2009, (Volume 74, Number 54) Pages 12131-12132] for public comment on seven information collection requests contained among the (FMCS) Labor Management Cooperation Program which was up for renewal of currently approved collection by Office of Management and Budget (OMB). FMCS submitted to the Office of Management Budget a request for review of these seven forms: Application for Federal Assistance (SF-424), Request for Advance or Reimbursement SF-270 (LM-6), Project Performance (LM-8), Financial Status Report SF-269a (LM-7), Grants Program Grantee Evaluation Questionnaire (agency form LM-9), and Accounting System and Financial Capability Questionnaire (LM-3). The request seeks OMB approval for an emergency extension with an expiration date of March 12, 2012, for forms SF-424, SF-270 (LM-6), (LM-8), SF-269a, (LM-7), (LM-9) and (LM-3).

DATES: FMCS received no comments regarding information collection. The forms are currently pending OMB approval.

ADDRESSES: Michael Bartlett, Federal Register Liaison at mbartlett@fmcs.gov.

FOR FURTHER INFORMATION CONTACT: Linda Stubbs, Grants Management Specialist, FMCS, 2100 K Street, NW., Washington, DC 20427. Telephone number (202) 606-8181, e-mail at lstubbs@fmcs.gov or fax at (202) 606-3434.

SUPPLEMENTARY INFORMATION: Copies of the complete agency forms are available from the Office of Labor Management Grants Program by calling, faxing, or writing Linda Stubbs at the address above. Please ask for forms by agency number.

I. Information Collection Requests

FMCS was seeking comments on the following information collection requests contained in FMCS agency forms.

Agency: Federal Mediation and Conciliation Service.

Form Number: OMB No. 3076-0006.

Expiration date: December 12, 2006.

Type of Request: Extension of a previously approved collection without change in the substance or method of collection.

Affected Entities: Potential applicants and/or grantees who received our grant application kit. Also applicants who have received a grant from FMCS.

Frequency:

a. Three of the forms, the SF-424, LM-6, and LM-9 are submitted at the applicant/grantee's discretion.

b. To conduct the quarterly submissions, LM-7and LM-8 forms are used. Less than quarterly reports would deprive FMCS of the opportunity to provide prompt technical assistance to deal with those problems identified in the report.

c. Once per application. The LM-3 is the only form to which a “similar information” requirement could apply. That form takes the requirement into consideration by accepting recent audit reports in lieu of applicant completion of items C2 through 9 and items D1 through 3.

Abstract: Except for the FMCS Forms LM-3 and LM-9, the forms under consideration herein are either required or recommended in OMB Circulars. The two exceptions are non-recurring forms, the former a questionnaire sent only to non-public sector potential grantees and the latter a questionnaire sent only to former grantees for voluntary completion and submission. The collected information is used by FMCS to determine annual applicant suitability, to monitor quarterly grant project status, and for on-going program evaluation. If the information were not collected, there could be no accounting for the activities of the program. Actual use has been the same as intended use.

Burden: Application for Federal Assistance (SF-424) is an OMB form which we do not include in the burden. We have not added to it; however we have deleted the requirements for completion of sections C, D, and E. We received approximately 113 responses. Request for Advance or Reimbursement SF-270 (LM-6) is an OMB form with no agency additions. The number of respondents is approximately 37 and estimated time per response is 30 minutes. Project Performance (LM-8) had approximately 37 respondents and the estimated time per response is 30 minutes. Financial Status Report (SF-269a) (LM-7) is an OMB form with no agency additions. The estimated time per response is 30 minutes and there are approximately 37 respondents. FMCS Grants Program Evaluation Questionnaire (LM-9) form number of respondents is approximately 12 and the estimated time per response is 60 minutes. The Accounting System and Financial Capability Questionnaire (LM-3) has approximately 28 respondents and the estimated time per response is 60 minutes.

II. Request for Comments

The FMCS was particularly interested in comments which:

(i) Evaluate whether the proposed collection of information is necessary for the proper performance of the functions of the agency, including whether the information will have practical utility;

(ii) Evaluate the accuracy of the agency's estimates of the burden of the proposed collection of information;

(iii) Enhance the quality, utility, and clarity of the information to be collected; and

(iv) Minimize the burden of the collection of information on those who are to respond, including the use of appropriate automated electronic collection technologies or other forms of information technology, e.g. permitting electronic and fax submission of responses.

III. The Official Records

The official records are the paper electronic records maintained at the address at the beginning of this document. FMCS will transfer all electronically received comments into printed-paper form as they are received.

List of Subjects

Labor-Management Cooperation Program and Information Collection Requests.

Dated: April 29, 2009.
Michael Bartlett,
Deputy General Counsel.

[FR Doc. E9-10679 Filed 5-6-09; 8:45 am]

BILLING CODE 6732-01-P